FEDERAL COMMUNICATIONS COMMISSION

47 CFR Part 73

[DA 02-1875; MM Docket No. 02-25; RM-10361]

Radio Broadcasting Services; Beverly Hills and Spring Hill, FL

AGENCY: Federal Communications Commission.

ACTION: Final rule.

SUMMARY: In this document, the Commission reallots Channel 292C3 from Beverly Hills to Spring Hill, Florida, as the community's first local aural transmission service, and modifies WGUL-FM, Inc.'s license for Station WGUL-FM to reflect the change of community. See 67 FR 8219 (02/22/2002). Coordinates for Channel 292C3 at Spring Hill are: NL 28-36-00 and WL 82-33-45.

DATES: Effective September 16, 2002.

FOR FURTHER INFORMATION CONTACT: Victoria M. McCauley, Media Bureau, (202) 418-2180.

SUPPLEMENTARY INFORMATION: This is a synopsis of the Commission's Report and Order, MM Docket No. 02-25, adopted July 24, 2002, and released August 2, 2002. The full text of this Commission decision is available for inspection and copying during normal business hours in the FCC Reference Center (Room 239), 445 12th Street, SW., Washington, DC. This document may also be purchased from the Commission's duplicating contractor, Qualex International, Portals II, 445 12th Street, SW., Room CY-B402, Washington, DC 20554, telephone 202-863-2893, facsimile 202-863-2898, or via e-mail qualexint@aol.com.

List of Subjects in 47 CFR Part 73

Radio, Radio broadcasting.

Part 73 of Title 47 of the Code of Federal Regulations is amended as follows:

PART 73—RADIO BROADCAST SERVICES

1. The authority citation for Part 73 continues to read as follows:

Authority: 47 U.S.C. 154, 303, 334, and 336.

2. Section 73.202(b), the Table of FM Allotments under Florida, is amended by adding Spring Hill, Channel 292C3, and removing Beverly Hills, Channel 292C3.

Federal Communications Commission.
John A. Karousos,
Assistant Chief, Audio Division, Media Bureau.

[FR Doc. 02-20596 Filed 8-13-02; 8:45 am]

BILLING CODE 6712-01-P